DEPARTMENT OF COMMERCE

National Oceanic and Atmospheric Administration

RIN 0648-XE691

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow one commercial fishing vessel to fish outside of the summer flounder, scup, and black sea bass regulations in support of research conducted by the Cornell Cooperative Extension. These exemptions would enable research designed to quantify codend mesh selectivity for summer flounder, black sea bass, and scup.

Regulations under the Magnuson-Stevens Fishery Conservation and Management Act require publication of this notification to provide interested parties the opportunity to comment on applications for proposed Exempted Fishing Permits.

DATES: Comments must be received on or before July 29, 2016.

ADDRESSES: You may submit written comments by any of the following methods:

• Email: nmfs.gar.efp@noaa.gov. Include in the subject line “CCE FSB mesh selectivity EFP.”

• Mail: John K. Bullard, Regional Administrator, NMFS, Greater Atlantic Regional Fisheries Office, 55 Great Republic Drive, Gloucester, MA 01930. Mark the outside of the envelope “Comments on CCE FSB mesh selectivity EFP.”

• Fax: (978) 281-9135.

FOR FURTHER INFORMATION CONTACT: Elizabeth Scheimer, Fisheries Management Specialist, 978-281-9236.

SUPPLEMENTARY INFORMATION: Cornell Cooperative Extension (CCE) submitted a complete application for an Exempted Fishing Permit (EFP) on June 6, 2016. They are seeking regulatory exemptions to allow gear research to be conducted on a commercial vessel fishing for a project funded by the Mid-Atlantic Fishery Management Council's collaborative research initiative. The EFP would authorize exemptions from the minimum mesh size and net modification requirements found at 50 CFR 648.108, 648.125, and 648.144. Any fishing activity conducted outside the scope of the exempted fishing activity would be prohibited, including landing fish in excess of a possession limit or below the minimum size.

Experimental fishing activity would compare the composition, commercial yield, retention efficiency, discards, and size selectivity of five different codends in the summer flounder, scup, and black sea bass commercial bottom trawl fishery in the Mid-Atlantic. The current regulated mesh sizes are 5.5-inch (13.97-cm) diamond or 6-inch (15.24-cm) square for summer flounder, 5-inch (12.7-cm) diamond for scup, and 4.5-inch (11.43-cm) diamond for black sea bass. This project would test diamond mesh in 4.5-inch (11.43-cm), 5-inch (12.7-cm), 5.5-inch (13.97-cm), 6-inch (15.24-cm), and 6-inch (15.24-cm) square mesh.

The research would be conducted on a commercial fishing vessel using a trouser trawl that would allow an experimental codend and the control codend to be fished at the same time. The control codend would be a standard squid liner with 6-cm diamond mesh.

The researchers would conduct the experiment across the wide range of strata and conditions representative of this fishery. Tow speeds, tow cable scope, and tow cable length would be consistent across all tows. The researchers propose to conduct 20 tows per experimental codend, for a total of 100 tows. Up to 20 days of fishing would occur between August 15 and December 31, 2016, south of Block Island and Long Island, in statistical areas 539, 613, 612, and 611. The researchers would not fish in the scup gear restricted areas or the Summer Flounder Fishery Sea Turtle Protection Area. Onboard catch processing would follow NMFS trawl survey standards. Total summer flounder, black sea bass, and scup would be weighed for each tow. Researchers will target a minimum of 200 random length measurements of each species to be sampled for each tow, but if fewer individuals are caught then all would be measured. CCE's anticipated catch is shown in table 1.

Table 1—Total Estimated Catch for 100 Tows During Mesh Selectivity Study
Species | Legal | Sub-legal
Summer Flounder | 18,000 lb (8.1 mt) | 9,000 lb (4.0 mt).
Black Sea Bass | 27,000 lb (12.2 mt) | 13,500 lb (6.1 mt).
Scup | 50,000 (22.7 mt) | 25,000 lb (11.3 mt).
Incidental Catch:
Skates | 30,000 lb (13.6 mt)
Dogfish spiny & smooth | 30,000 lb (13.6 mt)
Whiting (silver hake) | 30,000 lb (13.6 mt)
Ling (red hake) | 15,000 lb (6.8 mt)
Squid (longfin) | 10,000 lb (4.5 mt)

CCE would contract one commercial fishing vessel that is licensed for summer flounder, scup, and black sea bass in both New Jersey and New York. Fish would be landed and sold according to the appropriate state limits and be applied against the applicable annual catch limit. CCE would direct all experimental fishing activities that would occur under this EFP. This exemption may increase bycatch numbers beyond those that would normally occur within the fishery; however, the additional mortality will not exceed any catch limits and is therefore negligible. Bycatch will be returned to the water as quickly as possible to reduce mortality.

If approved, the applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: July 11, 2016.
Emily H. Menashes,
Acting Director, Office of Sustainable Fisheries, National Marine Fisheries Service.

[FR Doc. 2016-16675 Filed 7-13-16; 8:45 am]

BILLING CODE 3510-22-P